DEPARTMENT OF COMMERCE

International Trade Administration

[A-570-836]

Glycine From the People's Republic of China: Notice of Amended Final Results of Antidumping Duty Administrative Review Pursuant to Settlement; 2012-2013

AGENCY: Enforcement and Compliance, International Trade Administration, Department of Commerce.

SUMMARY: The Department of Commerce (the Department) is amending the final results of the 2012-2013 antidumping administrative review of glycine from the People's Republic of China (PRC) with respect to Evonik Rexim (Nanning) Pharmaceutical Co., Ltd. and Evonik Rexim S.A.S. (collectively, Evonik) pursuant to an agreement that settles the related litigation.

DATES: Effective date: December 16, 2015.

FOR FURTHER INFORMATION CONTACT: Edythe Artman or Brian Davis, AD/CVD Operations, Office VI, Enforcement and Compliance, International Trade Administration, U.S. Department of Commerce, 14th Street and Constitution Avenue NW., Washington, DC 20230; telephone: (202) 482-3931 or (202) 482-7924, respectively.

SUPPLEMENTARY INFORMATION:

Background

On March 29, 1995, the Department published the antidumping duty order on glycine from the PRC.¹ On October 31, 2014, the Department published the final results of its administrative review of the Order.² The period of review (POR) is March 1, 2012, through February 28, 2013. In the Final Results, the Department assigned Evonik, an exporter of the subject merchandise from the PRC to the United States, the rate assigned to the PRC-wide entity of 453.79 percent for the POR.

¹ See Glycine from the People's Republic of China: Antidumping Duty Order, 60 FR 16116 (March 29, 1995) (Order).

² See Glycine from the People's Republic of China: Final Results of Antidumping Duty Administrative Review; 2012-2013, 79 FR 64746 (October 31, 2014) (Final Results).

Following the publication of the Final Results, Evonik filed a lawsuit with the CIT challenging the Department's final results of administrative review. The United States and Evonik have now entered into an agreement to settle this dispute. The Court issued its Order of Judgment by Stipulation on November 16, 2015.³

³ See Evonik Rexim (Nanning) Pharmaceutical Co. Ltd. et al v. United States, Court No. 14-00296, Order of Judgment by Stipulation (November 16, 2015).

Assessment of Duties

Pursuant to the Court's Order of Judgment by Stipulation, the Department shall instruct Customs and Border Protection (CBP) to assess antidumping duties on all shipments of glycine from the PRC, which were entered, or withdrawn from warehouse, for consumption during the period March 1, 2012, through February 28, 2013, and that were exported by Evonik at a rate of 155.89 percent. The Department intends to issue assessment instructions to CBP within 15 days after the date of publication of these amended final results of the review in the Federal Register.

Cash Deposit Requirements

As stipulated in the Court's Order of Judgement by Stipulation, the order has no effect on entries not made during the POR and does not establish a revised cash deposit rate for Evonik.

Notification to Importers

This notice also serves as a final reminder to importers of their responsibility under 19 CFR 351.402(f) to file a certificate regarding the reimbursement of antidumping duties prior to liquidation of the relevant entries during this review period. Failure to comply with this requirement could result in the Secretary's presumption that reimbursement of antidumping duties occurred, and the subsequent assessment of double antidumping duties.

We are issuing this determination and publishing these amended final results of antidumping duty administrative review pursuant to the Court's Order of Judgment by Stipulation.

Dated: December 9, 2015.
Paul Piquado,
Assistant Secretary for Enforcement and Compliance.

[FR Doc. 2015-31630 Filed 12-15-15; 8:45 am]

BILLING CODE 3510-DS-P